DEPARTMENT OF TRANSPORTATION

Federal Aviation Administration

[Docket No. FAA-2015-3323]

Notice of Public Meetings for Unmanned Aircraft Systems Test Sites and Center of Excellence; Correction

AGENCY: Federal Aviation Administration (FAA), Department of Transportation (DOT).

ACTION: Notice of public meetings; correction.

SUMMARY: On August 6, 2015, the FAA published a notice of meeting to announce that the FAA will support seven public meetings during August and September, 2015. These meetings will be hosted by the six unmanned aircraft system (UAS) Test Sites and UAS Center of Excellence (COE). This notice corrects the point of contact for the Griffiss UAS Test Site.

DATES: Please see below for the date, time, and location of the meetings.

FOR FURTHER INFORMATION CONTACT: The Unmanned Aircraft Systems Integration Office, AFS-80, Federal Aviation Administration at: 9-AFS-UAS-Inquiries@faa.gov.

SUPPLEMENTARY INFORMATION: On August 6, 2015, the FAA published a notice of meeting (80 FR 47021) to announce the dates, times, and locations of seven meetings to be held at UAS test sites and the UAS Center of Excellence in August and September, 2015. The FAA incorrectly listed the point of contact for the Griffiss UAS Test Site public meeting. This notice corrects that error.

Correction

In the notice published on August 6, 2015, at 80 FR 47021, the contact information for the Griffiss UAS Test Site contained in the table on page 47022 is corrected to read as follows:

Site | Date, time, and location of meeting | Point of contact | Web site
UAS Test Sites
Griffiss International Airport Test Site | Tuesday, September 29, 2015, 2pm-4pm (local), Mohawk Valley Community College, 1101 Sherman Drive, Payne Hall 331, Utica, NY | Russell Stark, Commissioner, Oneida County Department of Aviation, (315) 736-4171, rstark@ocgov.net | www.nuairalliance.org.

Issued in Washington, DC, on August 7, 2015.
William E. Crozier,
Acting Manager, Unmanned Aircraft Systems Integration Office.

[FR Doc. 2015-20525 Filed 8-18-15; 8:45 am]

BILLING CODE 4910-13-P